ENVIRONMENTAL PROTECTION AGENCY

[FRL OP-OFA-194]

Environmental Impact Statements; Notice of Availability

Responsible Agency: Office of Federal Activities, General Information 202-993-3272 or https://www.epa.gov/nepa.

Weekly receipt of Environmental Impact Statements (EIS)

Filed August 25, 2025 10 a.m. EST Through August 29, 2025 10 a.m. EST

Pursuant to CEQ Guidance on 42 U.S.C. 4332.

Notice

Section 309(a) of the Clean Air Act requires that EPA make public its comments on EISs issued by other Federal agencies. EPA's comment letters on EISs are available at: https://cdxapps.epa.gov/cdx-enepa-II/public/action/eis/search.

EIS No. 20250127, Draft, BLM, NV, Silver Peak Lithium Operation Expansion Project, Comment Period Ends: 10/06/2025, Contact: Erik Bray 775-861-6451.

EIS No. 20250128, Final, DOE, PA, ADOPTION—GENERIC—License Renewal of Nuclear Plants Supplement 37 NUREG-1437 Regarding Three Mile Island Nuclear Station Unit 1 Dauphin County PA, Contact: Alicia Williamson 202-586-7272.

The Department of Energy (DOE) has adopted the Nuclear Regulatory Commission's Final EIS No. 20090218 filed 06/26/2009 with the Environmental Protection Agency.

Amended Notice

EIS No. 20250068, Draft, USACE, LA, 2025 Draft GRR SEIS Mississippi River, Baton Rouge to the Gulf of Mexico Mississippi River-Gulf Outlet, Louisiana, New Industrial Canal Lock and Connecting Channels Project, Comment Period Ends: 09/12/2025, Contact: Mark H. Lahare 504-862-1344.

Revision to FR Notice Published 07/03/2025; Extending the Comment Period from 09/02/2025 to 09/12/2025.

Dated: September 2, 2025.
Nancy Abrams,
Associate Director, Office of Federal Activities.

[FR Doc. 2025-17034 Filed 9-4-25; 8:45 am]

BILLING CODE 6560-50-P